DEPARTMENT OF LABOR

Employment and Training Administration

[TA-W-38,928; TA-W-38,928A]

Motorola, Inc. Personal Communications Sector; Amended Certification Regarding Eligibility To Apply for Worker Adjustment Assistance

In accordance with section 223 of the Trade Act of 1974 (19 U.S.C. 2273) the Department of Labor issued a Certification of Eligibility to Apply for Worker Adjustment Assistance on April 13, 2001, applicable to workers of Motorola, Inc., Personal Communications Sector, Harvard, Illinois. The notice was published in the Federal Register on May 2, 2001 (66 FR 22006).

At the request of the company, the Department reviewed the certification for workers of the subject firm. The workers were engaged in the production of cellular phones. The company reports that worker separations occurred at the Administrative Headquarters, Libertyville, Illinois, Personal Communications Sector of Motorola, Inc. The Libertyville, Illinois location provides administrative functions, including marketing and engineering, directly supporting the subject firm's production facility in Harvard, Illinois.

Accordingly, the Department is amending the certification to include workers of Motorola, Inc., Personal Communications, Administrative Headquarters, Libertyville, Illinois.

The intent of the Department's certification is to include all workers of Motorola, Inc., Personal Communications Sector adversely affected by increased imports.

The amended notice applicable to TA-W-38,928 is hereby issued as follows:

“All workers of Motorola, Inc., Personal Communications Sector, Harvard, Illinois (TA-W-38,928) and Motorola, Inc., Personal Communications Sector, Administrative Headquarters, Libertyville, Illinois (TA-W-38,928A) who became totally or partially separated from employment on or after February 14, 2000, through April 13, 2003, are eligible to apply for adjustment assistance under Section 223 of the Trade Act of 1974.”

Signed at Washington, DC this 25th day of July, 2001.
Linda G. Poole,
Certifying Officer, Division of Trade Adjustment Assistance.

[FR Doc. 01-20471 Filed 8-14-01; 8:45 am]

BILLING CODE 4510-30-M